DEPARTMENT OF TRANSPORTATION

National Highway Traffic Safety Administration

[Docket No. NHTSA 2000-6947, Notice 2]

Subaru of America, Inc.; Grant of Application for Decision of Inconsequential Non-Compliance

This notice grants the application by Subaru of America, Inc. (Subaru) to be exempted from the notification and remedy requirements of 49 U.S.C. 30118 and 30120 with respect to a noncompliance with Federal Motor Vehicle Safety Standard (FMVSS) No. 209, “Seat Belt Assemblies.” Subaru has filed an appropriate report pursuant to 49 CFR Part 573, “Defect and Noncompliance Reports.” Pursuant to 49 CFR Part 556, Subaru has also applied to be exempted from the notification and remedy requirements of 49 U.S.C. Chapter 301, “Motor Vehicle Safety.” The basis of the grant is that the noncompliance is inconsequential to motor vehicle safety.

Notice of receipt of the application was published March 9, 2000, and an opportunity afforded for comment (65 FR 12615). The closing date was April 10, 2000. No comments were received.

Description of Noncompliance

Replacement seat belt assemblies were packaged without instruction sheets required by FMVSS No. 209 S4.1(k) and (l). All of the seat belt assemblies involved meet all other requirements of FMVSS No. 209.

Approximately 522 sets of replacement seat belt assemblies manufactured and sold were involved.

Subaru Submitted the Following in Support of Its Application

In accordance with FMVSS No. 209, S4.1(k) replacement seat belt assemblies must be accompanied by installation instructions for installing the assembly in a motor vehicle. These instructions “shall state whether the assembly is for universal installation or for installation only in specifically stated motor vehicles and shall include at least those items specified in SAE Recommended Practice J800c, Motor Vehicle Seat Belt Installation, November 1973.

Subaru understands SAE Recommended Practice J800c, it deals primarily with the threading of webbing and location and drilling of anchorage holes and is not relevant here since all affected Subaru vehicles have pre-existing anchorage holes. All of the affected replacement seat belt assemblies are supplied ready for use with fully threaded webbing.

Subaru believes that S4.1(k) is intended to prevent the mismatch of a seat belt assembly in the wrong model vehicle or the wrong seating position and prevent improper installation of a seat belt at the correct position.

In accordance with FMVSS No. 209, S4.1(l) requires instructions addressing the importance of warning seat belts “snugly and properly located on the body” and information about seat belt maintenance. Subaru believes that since the owner's manual already provides proper usage and maintenance information to the vehicle owner and operator, incorrect usage and maintenance by the vehicle owner is highly unlikely.

Subaru has corrected all the replacement seat belt assembly inventory for shipment to dealers and will provide additional instruction documents to dealers with inventory subject to the noncompliance.

Replacement seat belt assemblies sold at retail to customers has not resulted in owner complaints as a result of this inconsequential noncompliance.

Subaru believes that, based upon the information described above, this is an inconsequential noncompliance.

NHTSA has reviewed Subaru's application and, for the reasons discussed below, has decided that the noncompliance of the Subaru seat belt assemblies is inconsequential to motor vehicle safety.

First, we note that seat belt assemblies were distributed through the Subaru parts system, without the required “installation instructions.” FMVSS No. 209, S4.1(k), requires that seat belt assemblies sold as replacement equipment have “installation instructions” to ensure that the correct seat belt is selected as a replacement part, and that the seat belt is installed correctly. Subaru assures us that its parts ordering system and the box labels are quite specific and adequate to ensure that the proper seat belt is provided as a replacement part. We also believe that Subaru is correct in stating that the parts are so specific that if a mechanic tried to install the wrong part, the seat belt would not fit properly. Thus, we conclude that adequate safeguards are being taken by Subaru to ensure that the correct replacement seat belts are provided.

There seems to be little need for the installation instructions with replacements for original equipment seat belts. The SAE J800c Recommended Practice incorporated in FMVSS No. 209 appears to have been written as a guide on how to install a seat belt where one does not exist. The Recommended Practice discusses such things as how to determine the correct location for anchorages, how to create adequate anchorages and how to properly attach webbing to the newly installed anchorages. These instructions do not apply to today's replacement market. Additionally, vehicle manufacturers provide service manuals on how seat belts should be replaced. NHTSA does not believe the “how to” instructions are necessary in this case.

Next, we note that the subject seat belt assemblies were distributed without the required “usage and maintenance instructions” specified in FMVSS No. 209, S4.1(l), which requires that seat belt assemblies sold as replacement equipment have owner instructions on how to wear the seat belt and how to properly thread the webbing on seat belts where the webbing is not permanently attached. NHTSA believes that the proper usage is adequately described in the vehicle owner's manual. NHTSA does not believe that instructions about the proper threading of webbing is applicable to modern original equipment automobile seat belt systems. This second instruction sheet is either duplicated in the owner's manual or not applicable.

In consideration of the foregoing, NHTSA has decided that the applicant has met its burden of persuasion that the noncompliance that it describes is inconsequential to safety. The determination is limited to the vehicles and equipment covered by the Part 573 report. All products manufactured on and after the date Subaru determined the existence of this noncompliance must fully comply with the requirements of FMVSS No. 209.

Accordingly, Subaru's application is granted, and the applicant is exempted from providing the notification of the noncompliance that is required by 49 U.S.C. 30118 and from remedying the noncompliance, as required by 49 U.S.C. 30120.

Authority: 49 U.S.C. 30118(b), 30120(h), delegations of authority at 49 CFR 150 and 501.8.

Issued on: November 6, 2000.
Stephen R. Kratzke,
Associate Administrator for Safety Performance Standards.

[FR Doc. 00-28835 Filed 11-8-00; 8:45 am]

BILLING CODE 4910-59-P